DEPARTMENT OF ENERGY

Federal Energy Regulatory Commission

Combined Notice of Filings #1

Take notice that the Commission received the following exempt wholesale generator filings:

Docket Numbers: EG20-115-000.

Applicants: Briar Creek Solar 1, LLC.

Description: Briar Creek Solar 1, LLC—Notice of Self-Certification of EWG Status.

Filed Date: 4/16/20.

Accession Number: 20200416-5092.

Comments Due: 5 p.m. ET 5/7/20.

Take notice that the Commission received the following electric rate filings:

Docket Numbers: ER10-2042-034; ER10-1944-007; ER10-2051-009; ER10-1942-026; ER17-696-014;ER14-2931-007; ER10-1941-012; ER19-1127-002; ER10-2043-009; ER10-2029-011; ER10-2041-009; ER18-1321-002; ER10-2040-009; ER10-1938-029; ER10-2036-010; ER13-1407-009; ER10-1934-028; ER10-1893-028; ER10-3051-033; ER10-2985-032; ER10-3049-033; ER10-1889-007; ER10-1888-012; ER10-1885-012; ER10-1884-012; ER10-1883-012; ER10-1878-012; ER10-3260-009; ER10-1877-007; ER10-1895-007; ER10-1876-012; ER10-1875-012; ER10-1873-012; ER10-1871-008; ER10-1870-007; ER11-4369-013; ER16-2218-013; ER12-1987-010; ER10-1947-012; ER12-2645-005; ER10-1863-007; ER10-1862-028; ER12-2261-011; ER10-1865-012; ER10-1858-007; ER13-1401-007; ER10-2044-009.

Applicants: Calpine Energy Services, L.P., Bethpage Energy Center 3, LLC, Calpine Bethlehem, LLC, Calpine Construction Finance Company, LP, Calpine Energy Solutions, LLC, Calpine Fore River Energy Center, LLC, Calpine Gilroy Cogen, L.P., Calpine Mid-Atlantic Generation, LLC, Calpine Mid-Atlantic Marketing, LLC, Calpine Mid Merit, LLC, Calpine Mid-Merit II, LLC, Calpine New Jersey Generation, LLC, Calpine Power America—CA, LLC, Calpine Vineland Solar, LLC, CES Marketing IX, LLC,CES Marketing X, LLC, Champion Energy, LLC, Champion Energy Marketing LLC, Champion Energy Services, LLC, CPN Bethpage 3rd Turbine, Inc., Creed Energy Center, LLC, Delta Energy Center, LLC, Geysers Power Company, LLC, Gilroy Energy Center, LLC, Goose Haven Energy Center, LLC, Granite Ridge Energy, LLC, Hermiston Power, LLC, KIAC Partners, Los Esteros Critical Energy Facility LLC, Los Medanos Energy Center, LLC, Metcalf Energy Center, LLC, Morgan Energy Center, LLC, Nissequogue Cogen Partners, Calpine King City Cogen, LLC, CCFC Sutter Energy, LLC, North American Power and Gas, LLC, Otay Mesa Energy Center, LLC, Pastoria Energy Facility L.L.C., Russell City Energy Company, LLC, Pine Bluff Energy, LLC, TBG Cogen Partners, South Point Energy Center, LLC, O.L.S. Energy-Agnews, Inc., North American Power Business, LLC, Power Contract Financing, L.L.C., Westbrook Energy Center, LLC, Zion Energy LLC.

Description: Notification of Change in Status of the Calpine MBR Sellers, et al.

Filed Date: 4/15/20.

Accession Number: 20200415-5159.

Comments Due: 5 p.m. ET 5/6/20.

Docket Numbers: ER17-2059-007.

Applicants: Puget Sound Energy, Inc.

Description: Notice of Non-Material Change in Status, et al. of Puget Sound Energy, Inc.

Filed Date: 4/15/20.

Accession Number: 20200415-5219.

Comments Due: 5 p.m. ET 5/6/20.

Docket Numbers: ER19-1282-001.

Applicants: Paulding Wind Farm IV LLC.

Description: Notice of Non-Material Change in Status of Paulding Wind Farm IV LLC.

Filed Date: 4/15/20.

Accession Number: 20200415-5152.

Comments Due: 5 p.m. ET 5/6/20.

Docket Numbers: ER19-1495-001.

Applicants: Virginia Electric and Power Company.

Description: Report Filing: VEPCO Settlement Refund Report to be effective N/A.

Filed Date: 4/16/20.

Accession Number: 20200416-5059.

Comments Due: 5 p.m. ET 5/7/20.

Docket Numbers: ER20-1574-000.

Applicants: Midcontinent Independent System Operator, Inc.

Description: § 205(d) Rate Filing: 2020-04-16_SA 3473 Ameren IL-Hickory Point Solar Energy Center GIA (J815) to be effective 4/2/2020.

Filed Date: 4/16/20.

Accession Number: 20200416-5028.

Comments Due: 5 p.m. ET 5/7/20.

Docket Numbers: ER20-1576-000.

Applicants: Southern California Edison Company.

Description: § 205(d) Rate Filing: Amend GIA and Distribution Service Agmt Tehachapi Plains Wind SA No. 651-652 to be effective 4/17/2020.

Filed Date: 4/16/20.

Accession Number: 20200416-5077.

Comments Due: 5 p.m. ET 5/7/20.

Docket Numbers: ER20-1577-000.

Applicants: Duke Energy Carolinas, LLC.

Description: § 205(d) Rate Filing: DEC Updated Nuclear Decommissioning Expense to be effective 6/16/2020.

Filed Date: 4/16/20.

Accession Number: 20200416-5078.

Comments Due: 5 p.m. ET 5/7/20.

Docket Numbers: ER20-1578-000.

Applicants: PacifiCorp.

Description: § 205(d) Rate Filing: Cedar Springs Wind NC-LGIA (Rev 2) to be effective 6/16/2020.

Filed Date: 4/16/20.

Accession Number: 20200416-5083.

Comments Due: 5 p.m. ET 5/7/20.

Docket Numbers: ER20-1579-000.

Applicants: Midcontinent Independent System Operator, Inc.

Description: § 205(d) Rate Filing: 2020-04-16_SA 3474 ATXI-Pana Solar GIA (J912) to be effective 4/2/2020.

Filed Date: 4/16/20.

Accession Number: 20200416-5096.

Comments Due: 5 p.m. ET 5/7/20.

Docket Numbers: ER20-1580-000.

Applicants: Alcoa Power Generating Inc.

Description: Requests for Reinstatement of Open Access Transmission Tariff Waivers, et al. of Alcoa Power Generating Inc.

Filed Date: 4/16/20.

Accession Number: 20200416-5098.

Comments Due: 5 p.m. ET 5/7/20.

Docket Numbers: ER20-1581-000.

Applicants: Midcontinent Independent System Operator, Inc., Republic Transmission, LLC.

Description: Compliance filing: 2020-04-16_Republic Attachment O Compliance to be effective 12/31/9998.

Filed Date: 4/16/20.

Accession Number: 20200416-5103.

Comments Due: 5 p.m. ET 5/7/20.

Take notice that the Commission received the following electric securities filings:

Docket Numbers: ES20-25-000.

Applicants: DTE Electric Company.

Description: Application Under Section 204 of the Federal Power Act for Authorization to Issue Securities of DTE Electric Company.

Filed Date: 4/15/20.

Accession Number: 20200415-5197.

Comments Due: 5 p.m. ET 5/6/20.

Take notice that the Commission received the following public utility holding company filings:

Docket Numbers: PH20-9-000.

Applicants: ENMAX Corporation.

Description: ENMAX Corporation submits FERC 65-B Waiver Notification.

Filed Date: 4/15/20.

Accession Number: 20200415-5192.

Comments Due: 5 p.m. ET 5/6/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 16, 2020.
Nathaniel J. Davis, Sr.,
Deputy Secretary.

[FR Doc. 2020-08512 Filed 4-21-20; 8:45 am]

BILLING CODE 6717-01-P